NUCLEAR REGULATORY COMMISSION

Workshop on Issues Related to the Construction Inspection Program for Reactors

AGENCY: U.S. Nuclear Regulatory Commission.

ACTION: Notice of workshop.

SUMMARY: The Nuclear Regulatory Commission (NRC) is holding a workshop on issues related to the construction inspection program for reactors built under the provisions of Part 52. The public workshop is scheduled to discuss the scope and the types of inspections which are planned during the new reactor construction project.

FOR FURTHER INFORMATION, CONTACT: Mr. James A. Isom, Inspection Program Branch, U.S. Nuclear Regulatory Commission, Washington, DC 20555-0001. Mr. Isom may be reached at (301) 415-109 or by e-mail at jai@nrc.gov.

DATES: The workshop will be held on August 27, 2003, from 8:30 a.m. to 4:30 p.m. Submit comments on the draft construction inspection program framework document by September 15, 2003. Comments received after the due date will be considered if it is practical to do so, but the Commission is able to assure consideration only for comments received on or before this date.

ADDRESSES: The workshop will be held at the U.S. Nuclear Regulatory Commission in the Two White Flint North Auditorium, 11545 Rockville Pike, Rockville, Maryland.

The draft construction inspection program framework document is available for public inspection in the NRC Public Document Room located at One White Flint North, 11555 Rockville Pike, Public File Area O1 F21, Rockville, Maryland, or from the Publicly Available Records (PARS) component of NRC's Agencywide Document Access and Management System (ADAMS), (ADAMS # ML031400849). ADAMS is accessible from the NRC Web site at http://www.nrc.gov/reading-rm/adams.html (the Public Electronic Reading Room). For more information, contact the NRC Public Document Room (PDR) Reference staff at 1-800-397-4209, 202-634-3273 or by e-mail to pdr@nrc.gov.

Written comments on the draft guidance should be sent to: Chief, Rules and Directives Branch, Division of Administrative Services, Office of Administration, Mail Stop T6-D59, U.S. Nuclear Regulatory Commission, Washington, D.C. 20555-0001. Comments may be hand-delivered to the NRC at 11545 Rockville Pike, Rockville, Maryland, between 7:45 a.m. and 4:15 p.m. on Federal workdays. Comments may be submitted electronically by the Internet to the NRC at nrcrep@nrc.gov. All comments received by the Commission, including those made by Federal, State, and local agencies, Indian tribes, or other interested persons, will be made available electronically at the Commission's Public Document Room in Rockville, Maryland or from the Publicly Available Records (PARS) component of NRC's document system (ADAMS).

SUPPLEMENTARY INFORMATION: The NRC has developed a draft construction inspection program framework document. The document describes the proposed inspections which will be conducted for reactors built under the 10 CFR part 52 process. The framework document details the proposed audits and inspections conducted by the NRC during the Early Site Permit (ESP) and Combined License (COL) phases. The document also discusses how the NRC staff will verify satisfactory completion of the inspections, tests, analyses, and acceptance criteria (ITAAC) and review operational programs.

In the “Draft 10 CFR Construction Inspection Program Framework Document,” the NRC staff set forth the basis for the construction inspection program for reactors built under 10 CFR part 52. The document was issued on May 30, 2003 and the public workshop is scheduled for August 27, 2003 to discuss the scope and the types of inspections which are planned during the new reactor construction project. Additionally, comments received from various stakeholders will be discussed. The following topics will be discussed:

• The scope and types of NRC inspections and when they will occur for the different phases of construction of a nuclear plant constructed under 10 CFR part 52.

• How the NRC staff plans to inspect and verify licensee's completion of inspections, tests, analyses and acceptance criteria (ITAAC).

• How the NRC staff plans to inspect the operational programs which do not have ITAAC associated with them.

• How the NRC staff plans to conduct engineering design verifications and first-of-a-kind engineering inspections.

Dated at Rockville, Maryland, this 30th day of May 2003.
For the Nuclear Regulatory Commission.
Stuart A. Richards,
Chief, Inspection Program Branch, Division of Inspection Program Management, Office of Nuclear Reactor Regulation.

[FR Doc. 03-14278 Filed 6-5-03; 8:45 am]

BILLING CODE 7590-01-P